Title 3—

The President

Executive Order 13746 of November 3, 2016

Advancing the Goals of the Power Africa Initiative to Expand Access to Electricity in Sub-Saharan Africa Through the Establishment of the President's Power Africa Working Group

By the authority vested in me as President by the Constitution and the laws of the United States of America, it is hereby ordered as follows:

Section 1. Policy. It is the policy of the United States to partner, consult, and coordinate with African governments, bilateral and multilateral partners, the private sector, and civil society to expand access to electricity and increase electricity generation in Sub-Saharan Africa, in both urban and rural areas. Through the Power Africa initiative (Power Africa), we aim to double access to power in Sub-Saharan Africa by adding 30,000 megawatts (MW) of capacity and 60 million new household and business connections by 2030, and in so doing, leapfrog to cleaner forms of energy and foster inclusive economic growth and opportunity across Sub-Saharan Africa.

On June 30, 2013, my Administration launched Power Africa, a new initiative to double access to power in Sub-Saharan Africa, where more than two-thirds of the population is without electricity, and more than 85 percent of those living in rural areas lack access to electricity. In its initial phase, Power Africa aimed to add more than 10,000 MW of cleaner, more efficient electricity generation capacity and to increase electricity access by at least 20 million new households and commercial entities with on-grid, mini-grid, and off-grid solutions. Power Africa builds on Africa's enormous power potential, including extensive clean geothermal, hydro, wind and solar energy resources, as well as vast oil and gas reserves. Power Africa works with countries to develop resources responsibly, build out power generation, transmission, and distribution, and expand the reach of mini-grid and off-grid solutions. Power Africa brings to bear a wide range of tools from across the Federal Government and more than 130 public and private sector partners to support investment in Africa's energy sector. Power Africa provides coordinated support to help African partners expand their power networks and access to electricity, including through policy and regulatory best practices, institutional capacity building, pre-feasibility support, grants, long-term financing, insurance, guarantees, credit enhancements, and technical assistance.

On August 5, 2014, during the U.S.-Africa Leaders Summit, my Administration affirmed that Power Africa is intended to reach across Sub-Saharan Africa, and tripled Power Africa's goals. Power Africa is now working toward adding 30,000 MW of new, cleaner electricity generation capacity and increasing electricity access by at least 60 million new connections. On January 28, 2016, my Administration, in coordination with Power Africa partners, launched the Power Africa Roadmap, which lays out a concrete plan for Power Africa to meet its ambitious goals by 2030.

The Electrify Africa Act of 2015, enacted on February 8, 2016 (Public Law 114-121) (the “Act”), calls for the development of a strategy to add at least 20,000 MW of electrical power and promote first-time access to power and power services for at least 50 million people in Sub-Saharan Africa by 2020 in both urban and rural areas—an effort that directly supports and complements Power Africa's goals. This order furthers the purposes of the Act and the work that Power Africa has been undertaking.

Sec. 2. Establishment of the Coordinator for Power Africa. The United States Agency for International Development (USAID) shall serve as the lead agency to facilitate the implementation of Power Africa and associated activities across the United States Government. The Administrator of USAID shall establish the position of Coordinator for Power Africa within USAID.

Sec. 3. Power Africa Working Group. (a) There is hereby established the Power Africa Working Group (Working Group), co-chaired by the Coordinator for Power Africa within USAID and a member of the National Security Council (NSC) staff to be designated by the Assistant to the President for National Security Affairs. The Working Group shall serve as the multi-agency coordinating and advisory body for the Federal Government's efforts to identify, evaluate, prioritize, and deliver assistance to energy projects across Sub-Saharan Africa in order to advance the energy access and electricity generation goals of Power Africa and promote policy cohesion across the Federal Government. Through the Working Group, participating departments and agencies shall provide advice and promote coherence of United States Government positions on and assistance for priority energy projects and policy reforms in support of Power Africa.

(b) The Working Group shall consist of representatives of the following executive branch departments and agencies (Participating Agencies):

(i) the Department of State;

(ii) the Department of the Treasury;

(iii) the Department of Agriculture;

(iv) the Department of Commerce;

(v) the Department of Energy;

(vi) the Export-Import Bank of the United States;

(vii) the United States Agency for International Development;

(viii) the Overseas Private Investment Corporation;

(ix) the United States Trade and Development Agency;

(x) the Millennium Challenge Corporation;

(xi) the United States Army Corps of Engineers;

(xii) the Office of Management and Budget; and

(xiii) such other agencies as the Co-Chairs may designate or invite to participate, including the United States African Development Foundation.

(c) The Working Group may consult with non-United States Government entities that participate in Power Africa as bilateral, multilateral, private sector partners and nongovernmental organizations to provide input and advice to the United States Government, as appropriate, regarding the implementation of Power Africa.

(d) The Working Group may establish sub-groups consisting exclusively of Working Group members or their designees, as appropriate, such as one for each of the three pillars of the Power Africa Roadmap: (1) megawatts, (2) connections, and (3) unlocking energy sector potential.

(e) The Working Group shall be supported by the Office of the Coordinator for Power Africa within USAID.

Sec. 4. Mission and Functions of the Working Group. The Working Group, as may be necessary and appropriate to carry out this order, shall:

(a) Ensure efficient and effective coordination of energy access activities in Sub-Saharan Africa among Participating Agencies.

(b) Identify, prioritize, and evaluate potential Power Africa projects, regulatory and policy reforms, and programmatic focus areas, including maximizing deployment of and access to renewable energy.

(c) Identify country and project specific obstacles to the development of the electricity sector, including financial and technical assistance needs and capacity building needs, and identify opportunities for Participating Agencies to deploy their respective tools and best practices to advance needed reforms and accelerate the completion of Power Africa projects.

(d) Enhance coordination among Participating Agencies to maximize the efficiency and effectiveness of United States Government development assistance and other development finance tools as related to Power Africa priorities.

(e) Facilitate information sharing and coordination of partnerships between Participating Agencies and African governments, the private sector, development partners, and bilateral and multilateral partners to help advance Power Africa's goals.

(f) Identify appropriate courses of action to liaise with host governments to advance regulatory and policy reforms, as well as energy transactions, related to Power Africa.

(g) Identify best practices for Participating Agencies to coordinate their engagement with development partners, including bilateral donors, development finance institutions, and multilateral development banks on energy access issues, to ensure that Power Africa's tools are deployed in a way that is complementary to and leverages the impact of United States Government resources.

(h) Meet with private sector partners, as appropriate, to review Power Africa projects and activities, and to solicit input regarding technical, policy, financial or political, obstacles that partners are encountering in the energy sector across Sub-Saharan Africa.

(i) Meet with bilateral and multilateral development partners, as appropriate, to coordinate country-specific and regional energy access policy agendas, coordinate deployment of financial resources and technical expertise to identify and accelerate Power Africa projects and activities, and review project pipelines.

(j) Monitor and periodically evaluate Power Africa projects and activities to measure the effectiveness of United States Government assistance and other development finance tools in achieving Power Africa's electricity generation and access goals, and to share lessons learned. These evaluations may recommend reforms to facilitate support for future projects and activities, and to increase the Working Group's effectiveness.

Sec. 5. Partnering with African Private Sector Companies. I hereby direct Participating Agencies to facilitate as appropriate, to the maximum extent possible under the law, the participation of local and regional companies in power, renewable energy, and climate change projects in low-income countries in Africa, including through the use of financing and risk insurance, where appropriate.

Sec. 6. Reporting. The Administrator of USAID, in coordination with the Participating Agencies, shall lead in the development of a report, to be transmitted to the Congress pursuant to section 7 of the Act and the Presidential Memorandum of August 3, 2016, “Delegation of Authority Pursuant to Section 4 and Section 7 of the Electrify Africa Act of 2015,” on progress made toward achieving the comprehensive, integrated, multiyear strategy that was transmitted to the Congress on August 6, 2016, pursuant to section 4 of the Act, to encourage the efforts of countries in Sub-Saharan Africa to implement national power strategies and develop an appropriate mix of power solutions to provide access to sufficient, reliable, affordable, and sustainable power in order to reduce poverty and drive economic growth and job creation.

Sec. 7. General Provisions. (a) Nothing in this order shall be construed to impair or otherwise affect:

(i) the authority granted by law to an executive department, agency, or the head thereof, or the status of that department or agency within the Federal Government; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

November 3, 2016.

[FR Doc. 2016-27156

Filed 11-7-16; 11:15 am]

Billing code 3295-F7-P